NATIONAL TRANSPORTATION SAFETY BOARD

Agency Recordkeeping/Reporting Requirements Under Emergency Review by the Office of Management and Budget (OMB)

The National Transportation Safety Board has submitted the following (see below) public information collection request (ICR) to the Office of Management and Budget (OMB) for review and clearance under the Paperwork Reduction Act of 1995 (Pub. L. 104-13, 44 U.S.C. chapter 35). A copy of this individual ICR, with applicable supporting documentation, may be obtained by calling the National Transportation Safety Board Departmental Clearance Officer, Deb Bruce, Ph.D. (202) 314-6511. Comments and questions about the ICR listed below should be directed to the Office of Information and Regulatory Affairs, Attn: OMB Desk Officer for the National Transportation Safety Board, Office of Management and Budget, Room 10102, 725 17th Street, NW., Washington, DC 20503.

Agency: National Transportation Safety Board.

Title: Supervisory control and data acquisition system questionnaire.

OMB Number: New.

Frequency: Once.

Affected Public: Liquid pipeline operators.

Number of Respondents: 185.

Estimated Time Per Respondent: 40 minutes.

Total Burden Hours: 124.

Description: The National Transportation Safety Board is currently conducting a study on supervisory control and data acquisition (SCADA) systems in use by liquid pipeline operators.

Therefore, the National Transportation Safety Board is seeking clearance to obtain data from liquid pipeline operators on their use of SCADA systems.

Dated: April 21, 2003.
Vicky D'Onofrio,
Federal Register Liaison Officer.

[FR Doc. 03-10199 Filed 4-24-03; 8:45 am]

BILLING CODE 7533-01-M